DEPARTMENT OF HEALTH AND HUMAN SERVICES

Centers for Disease Control and Prevention

[60Day-18-0234; Docket No. CDC-2018-0073]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled the National Ambulatory Medical Care Survey (NAMCS). The goal of the project is to assess the health of the population through patient use of physician offices, community health centers (CHCs), and to monitor the characteristics of physician practices].

DATES: CDC must receive written comments on or before October 9, 2018.

ADDRESSES: You may submit comments, identified by Docket No. CDC-2018-0073 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Ambulatory Medical Care Survey (NAMCS) (OMB Control No. 0920-0234, Exp. Date 03/31/2019)—Revision- National Center for Health Statistics (NCHS), Centers for Disease Control and Prevention (CDC).

Background and Brief Description

The National Ambulatory Medical Care Survey (NAMCS) was conducted intermittently from 1973 through 1985, and annually since 1989. The survey is conducted under authority of Section 306 of the Public Health Service Act (42 U.S.C. 242k).

NAMCS is part of the ambulatory care component of the National Health Care Surveys (NHCS), a family of provider-based surveys that capture health care utilization from a variety of settings, including hospital inpatient and long-term care facilities. NCHS surveys of health care providers include NAMCS, the National Hospital Ambulatory Medical Care Survey (NHAMCS) (OMB No. 0920-0278, Exp. Date 06/30/2021), the National Hospital Care Survey (OMB No. 0920-0212, Exp. Date 01/31/2019), and National Study of Long-term Care Providers (OMB No. 0920-0943, Exp. Date 12/31/2019).

An overarching purpose of NAMCS is to meet the needs and demands for statistical information about the provision of ambulatory medical care services in the United States; this fulfills one of NCHS missions, to monitor the nation's health. In addition, NAMCS provides ambulatory medical care data to study: (1) The performance of the U.S. health care system, (2) care for the rapidly aging population, (3) changes in services such as health insurance coverage change, (4) the introduction of new medical technologies, and (5) the use of EHRs. Ongoing societal changes have led to considerable diversification in the organization, financing, and technological delivery of ambulatory medical care. This diversification is evidenced by the proliferation of insurance and benefit alternatives for individuals, the development of new forms of physician group practices and practice arrangements (such as office-based practices owned by hospitals), and growth in the number of alternative sites of care.

Ambulatory services are rendered in a wide variety of settings, including physician offices and hospital outpatient and emergency departments. Since more than 80% of all direct ambulatory medical care visits occur in physician offices, NAMCS provides data on the majority of ambulatory medical care services.

In addition to health care provided in physician offices and outpatient and emergency departments, community health centers (CHCs) play an important role in the health care community by providing care to people who might not be able to afford it otherwise. CHCs are local, non-profit, community-owned health care settings, which serve approximately 23 million individuals throughout the United States. Prior to 2006, visits made to CHCs, although captured in NAMCS, were not purposely included in the sampling plan; at that time, CHCs did not represent a separate NAMCS stratum. In an attempt to obtain a more accurate picture of health care provided in the United States, a sample of 104 CHCs was included in the 2006 NAMCS panel. There has been annual data collection from CHCs since that time, and these settings will continue to be sampled in 2019-2021. The total estimated annual number of Burden Hours are 4,953. There is no cost to respondents other than their time.

Estimated Annualized Burden Hours
Type of respondents | Form name | Number of respondents | Number of responses per respondent | Avg. burden per response (in hrs.) | Total burden (in hrs.)
Traditional Office-based Physicians or Staff | 2018 Physician Induction Interview (NAMCS-1) | 122 | 1 | 30/60 | 61
Traditional Office-based Physicians or Staff | 2019+ Physician Induction Interview (NAMCS-1) | 1,097 | 1 | 30/60 | 549
Traditional Office-based Physicians or Staff | 2018 Pulling, re-filing medical record forms (FR abstracts) | 99 | 30 | 1/60 | 50
Traditional Office-based Physicians or Staff | 2019+ Pulling, re-filing medical record forms (FR abstracts) | 893 | 30 | 1/60 | 447
MU Office-based Physician Staff | 2019+ MU Physician Induction Interview (NAMCS-PFI) | 2,000 | 1 | 45/60 | 1,500
MU Office-based Physician Staff | 2019+ Pulling, re-filing medical record forms (MU Onboarding) | 2,000 | 1 | 60/60 | 2,000
Community Health Center Executive/Medical Directors | 2018 Induction Interview—service delivery site (NAMCS-201) | 12 | 1 | 30/60 | 6
Community Health Center Executive/Medical Directors | 2019+ Induction Interview—service delivery site (NAMCS-201) | 104 | 1 | 30/60 | 52
Community Health Center Providers | 2018 Induction Interview—Providers (NAMCS-1) | 27 | 1 | 30/60 | 14
Community Health Center Providers | 2019+ Induction Interview—Providers (NAMCS-1) | 234 | 1 | 30/60 | 117
Community Health Center Provider Staff | 2018 Pulling, re-filing medical record forms (FR abstracts) | 27 | 30 | 1/60 | 14
Community Health Center Provider Staff | 2019+ Pulling, re-filing medical record forms (FR abstracts) | 234 | 30 | 1/60 | 117
Traditional Physician Office-based and Community Health Center Staff | 2018 Pulling, re-filing medical record forms (FR abstracts) for the Reabstraction Study | 3 | 10 | 1/60 | 1
Traditional Physician Office-based and Community Health Center Staff | 2019+ Reinterview Study | 100 | 1 | 15/60 | 25
Total |  |  |  |  | 4,953

Jeffrey M. Zirger,
Acting Chief, Information Collection Review Office, Office of Scientific Integrity, Office of the Associate Director for Science, Office of the Director, Centers for Disease Control and Prevention.

[FR Doc. 2018-17175 Filed 8-9-18; 8:45 am]

BILLING CODE 4163-18-P